DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders and findings with July anniversary dates. In accordance with Commerce's regulations, we are initiating those administrative reviews.

DATES: Applicable September 7, 2021.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders and findings with July anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at https://access.trade.gov, in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

Exporters and producers must file a timely Separate Rate Application or Certification if they want to be considered for respondent selection. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than July 30, 2022.

| Period to be reviewed
AD Proceedings | Period to be Reviewed
BELGIUM: Citric Acid and Certain Citrate Salts A-423-813 | 7/1/20-6/30/21
S.A. Citrique Belge N.V
COLOMBIA: Citric Acid and Certain Citrate Salts A-301-803 | 7/1/20-6/30/21
Sucroal S.A
INDIA: Fine Denier Polyester Staple Fiber A-533-875 | 7/1/20-6/30/21
Reliance Industries Limited
INDIA: Polyethylene Terephthalate (Pet) Film A-533-824 | 7/1/20-6/30/21
Ester Industries Ltd
Garware Polyester Ltd
Vacmet India Ltd
MTZ Polyesters Ltd
Uflex Ltd
Jindal Poly Films Ltd
SRF Ltd
Polyplex Corporation Ltd
ITALY: Certain Pasta A-475-818 | 7/1/20-6/30/21
Aldino S.R.L
Armonie D'Italia srl
F. Divella S.p.A
Falco Molino e Pastificio srl
La Molisana S.p.A
Liguori Pastificio dal 1820 S.p.A
Pastificio C.A.M.S. Srl
Pasta Casiglioni
Pastificio Della Forma S.R.L
Pastificio Di Martino Gaetano e Flli S.p.A
Pastificio Favellato srl
Pastificio Fratelli De Luca S.R.L
Pastificio Mediterranea S.R.L
Pastificio Tamma S.R.L
Rummo S.p.A
Valdigrano di Flavio Pagani S.R.L
JAPAN: Cold-Rolled Steel Flat Products A-588-873 | 7/1/20-6/30/21
Allegheny Technologies Japan Ltd
Daido Kogyo Co., Ltd
Hanwa Co., Ltd
Honda Trading Corporation
JFE Shoji Corporation
JFE Shoji Trade Corp
JFE Shoji Trade Corporation
Kanematsu Corporation
Mitsui & Co., Ltd
Nippon Steel Trading Co. Ltd
Okaya & Co., Ltd
Shinsho Corporation
Subaru Corporation
Sumitomo Corporation
Sumitomo Corporation Global Metals
The Topy Group (Japan)
Topy Enterprises Limited
Topy Enterprises, Ltd
Toyo Kihan Co. Ltd
Toyo Kohan Co. Ltd
MALAYSIA: Certain Steel Nails A-557-816 | 7/1/20-6/30/21
Airlift Trans Oceanic Pvt. Ltd
Alsons Manufacturing India, LLP
Astrotech Steels Pvt. Ltd
Atlantic Marine Group Ltd
Bluemoon Logistics Pvt. Ltd
C.H. Robinson Worldwide Freight India Pvt., Ltd
Chia Pao Metal Co., Ltd
Chuan Heng Hardware Paints and Building Materials Sdn. Bhd
Come Best (Thailand) Co., Ltd
Dahnay Logistics Pvt., Ltd
Gbo Fastening Systems AB
Geekway Wires Limited
Honour Lane Logistics Sdn., Bhd
Honour Lane Shipping Ltd
Impress Steel Wire Industries Sdn., Bhd
Inmax Industries Sdn., Bhd
Inmax Sdn. Bhd
Kerry-Apex (Thailand) Co., Ltd
Kerry Indev Logistics Pvt., Ltd
Kerry Logistics (M) Sdn., Bhd
Kimmu Trading Sdn., Bhd
Modern Factory for Steel Industries Co., Ltd
Oman Fasteners LLC
Orient Containers Sdn., Bhd
Orient Express Container Co., Ltd
Region System Sdn., Bhd
Region International Co., Ltd
RM Wire Industries Sdn. Bhd
Royal Logistics
SAR Transport Systems Pvt., Ltd
Soon Shing Building Materials Sdn., Bhd
Storeit Services LLP
Tag Fasteners Sdn., Bhd
Tag Staples Sdn., Bhd
Tampin Sin Yong Wai Industry Sdn., Bhd
Teamglobal Logistics Pvt., Ltd
Top Remac Industries
Trinity Steel Private Limited
UD Industries Sdn., Bhd
Vien Group Sdn., Bhd
Watasan Industries Sdn., Bhd
WWL India Private Ltd
OMAN: Certain Steel Nails A-523-808 | 7/1/20-6/30/21
Airlift Trans Oceanic Pvt. Ltd
Al Kiyumi Global LLC
Al Sarah Building Materials LLC
Astrotech Steels Private Ltd
CL Synergy (Pvt) Ltd
Geekay Wires Ltd
Gulf Steel Manufacturers LLC
Modern Factory For Metal Products
Oman Fasteners LLC
Omega Global Uluslararasi Tasimacilik Lojistik Ticaret Ltd Sti
Overseas International Steel Industry, LLC
Swift Freight India Private Ltd
Trinity Steel Pvt. Ltd
Universal Freight Services LLC
WWL Indian Private Ltd
REPUBLIC OF KOREA: Certain Steel Nails A-580-874 | 7/1/20-6/30/21
Agl Co., Ltd
Air Tiger Express (Asia), Inc
Airlift Trans Oceanic Private Limited
Am Global Shipping Lines Co, Ltd
American Ocean Marinetime Inc
Americana Express (Shandong) Co. Ltd
Ansing Fasteners Co. Ltd
Astrotech Steels Private Limited
Beijing Catic Industry Limited
Beijing Jinheung Co., Ltd
Beijing Kang Jie Kong Cargo Agent Co., Ltd
Big Mind Group Co., Ltd
Bollore Logistics China Co., Ltd
Bondex Logistics Co., Ltd
Brilliant Logistics Group Inc
C.H. Robinson Freight Services Korea Ltd
Capital Freight Management Inc
Cargo Advantage Network Limited
Cargo Services (Tianjin) Co., Ltd
Casia Global Logistics Co. Ltd
Changzhou Kya Trading Co., Ltd
China Int'l Freight Co., Ltd
China Staple Enterprise Tianjin Co. Ltd
Chinatrans International Limited
City Ocean Logistics Co., Ltd
CML Grandcorp Logistics Co., Ltd
Cohesion Freight (HK) Limited
D&F Material Products Ltd
Da Wu Supply Chain Management Co
Daejin Steel Company
DahNay Logistics Private Limited
Daijin Express Co., Ltd
Dcs Dah Star Logistics Co., Ltd
De Well Container Shipping Inc
De Well Group Korea Co., Ltd
Dele International Logistics Co
Dezhou Hualude Hardware Products Co. Ltd
DLF Industry Co., Limited
Dongjin Logistics Co., Ltd
Doublemoon Hardware Company Ltd
DSV Air & Sea Co., Ltd
DT China (Shanghai) Ltd
Dynamic Network Container Line Ltd
Ejen Brothers Limited
England Rich Group (China) Ltd
E-Top Shipping Co, Ltd
Eunsan Shipping & Aircargo Co., Ltd
Euro Line Global Co., Ltd
Eusu Logistics Co., Ltd
Ever Leading International Inc
Everstar Logistics Company Limited
Expeditors Korea Ltd
Expeditors Taiwan Co. Ltd
Fastgrow International Co., Inc
Freight Mark Asia (M) Sdn. Bhd
G Link Logistics Co., Ltd
Geekay Wires Limited
Global Container Line
Glovis America, Inc
GWP Industries (Tianjin) Co., Ltd
Haas Automation Inc
Han Express Co. Ltd
Hanbit Logistics Co Ltd
Handuk Industrial Co., Ltd
Hanmi Staple Co., Ltd
Headwin Logistics Co., Ltd
Hebei Cangzhou New Century Foreign Trade Co., Ltd
Hebei Longshengyuan Trade Co Ltd
Hebei Minmetals Co., Ltd
Hebei Shinyee Trade Co. Ltd
Hecny Shipping Limited
Hecny Transportation (Shanghai) Ltd
Hengtuo Metal Products Company Limited
Home Value Co., Ltd
Hongyi (Hk) Hardware Products Co., Limited
Hongyi (Hk) Industrial Co. Limited
Honour Lane Logistics Sdn. Bhd
Honour Lane Shipping Ltd
Huanghua RC Business Co., Ltd
Huanghua Yingjin Hardware Products Co., Ltd
Huanghua Yiqihe Imp. & Exp. Co., Ltd
Inmax Industries Sdn. Bhd
Jas Forwarding (Korea) Co., Ltd
Jayhow International Logistics Co., (Tianjin) Ltd
Jcd Group Co., Limited
Je-il Wire Production Co., Ltd
JHJ International Transportation Co., Ltd
Jining Jufu International Trade Co.
Joo Sung Sea & Air Co., Ltd
Jushiqiangsen (Tianjin) International Trade Co., Ltd
K-Apex Logistics (Qingdao) Co., Ltd
K-Apex Logistics (Tianjin) Co., Ltd
Kerry Logistics (M) Sdn. Bhd
Kerry-Apex (Thailand) Co., Ltd
Koram Inc Korea Wire Co., Ltd
Korea Wire Co., Ltd
Kuehne & Nagel Ltd
Kwise Logistics (Shandong)Co., Ltd
LF Logistics (China) Co., Ltd
Linkone Logistics Co., Ltd
Linyi Double-Moon Hardware Products Co., Ltd
Linyi Flyingarrow Imp. & Exp. Co. Ltd
Linyi Jianchengde Metal Hardware Co
Linyi Yitong Chain Co., Ltd
Max Co., Ltd
Maxwide Logistics Inc
Mega Logistics Ltd
Mingguang Ruifeng Hardware Products Co., Ltd
Nailtech Co., Ltd
Nanjing Senqiao Trading Co., Ltd
Neptune Shipping Limited
Neptune Supply Chain Technology Shanghai Limited
Ocean King International Industries Limited
Oceanlink/Topair International Co., Ltd
Oec Freight Worldwide Co., Ltd
Oec Logistics (Qingdao) Co., Ltd
Oec Worldwide Korea Co., Ltd
Orient Containers Sdn. Bhd
Orient Express Container Co., Ltd
Orient Star Transport International Ltd
Oriental Power Logistics Co., Ltd
Ouhua Supply Chain Management Co., Ltd
Ourun Logistics Pacific Express Line Co., Ltd
Parisi Grand Smooth Logistics Ltd
Paslode Fasteners (Shanghai) Co., Ltd
Peace Korea Co., Ltd
Pudong Prime Int'l Logistics, Inc
Qingdao A C Shipping Co., Ltd
Qingdao Ant Hardware Manufacturing Co., Ltd
Qingdao Best World Industry-Trading Co., Ltd
Qingdao Cheshire Trading Co., Ltd
Qingdao Friend International Logistics Co., Ltd
Qingdao Greatmicro Supply Chain Co., Ltd
Qingdao Hongyuan Nail Industry Co., Ltd
Qingdao Jcd Machinery Co., Ltd
Qingdao Jiawei Industry Co., Limited
Qingdao Jisco Co., Ltd
Qingdao Karin International Transportation Co., Ltd
Qingdao Master Metal Products Co., Ltd
Qingdao Meijialucky Industry And Co.
Qingdao Mst Industry And Commerce Co., Ltd
Qingdao Ruitai Trade Co., Ltd
Qingdao Shantron Intl Trade Co., Ltd
Qingdao Shenghengtong Metal Products Co., Ltd
Qingdao Speedy-Express Logistics Co., Ltd
Qingdao Sun Star International Logistics Co., Ltd
Qingdao Sunrise Metal Products Co., Ltd
Qingdao Tian Heng Xiang Metal Products Co., Ltd
Qingdao Top Metal Industrial Co., Ltd
Ramses Logistics Company Limited
Regency Global Logistics (Shanghai) Co., Ltd
Rise Time Industrial Ltd
Rs Logistics Limited
Safround Logistics Co., Ltd
Sar Transport Systems Pvt. Ltd
Seamaster Global Forwarding (Shanghai) Ltd
Seatrade International Transportation Agency Co., Ltd
Shandong Dominant Source Group Co., Ltd
Shandong Guomei Industry Co., Ltd
Shanghai Curvet Hardware Products Co., Ltd
Shanghai Goldenbridge International Co., Ltd
Shanghai Pinnacle International Trading Co., Ltd
Shanghai Pudong International Transportation Co., Ltd
Shanghai Zoonlion Industrial Co., Ltd
Shanxi Pioneer Hardware Industrial Co., Ltd
Shanxi Sanhesheng Trade Co., Ltd
Shaoxing Bohui Import & Export Co., Ltd
Shenzhen Syntrans International Logistics Co., Ltd
Shijiazhuang Tops Hardware Manufacturing Co., Ltd
Shijiazhuang Yajiada Metal Products Co., Ltd
Sino Connections Logistics Inc
SSS Hardware International Trading Co., Ltd
Storeit Services LLP
Swift Freight India Pvt. Ltd
T.V.L. Container Line Limited
Tangshan Jason Metal Materials Co., Ltd
Test Rite International Co. Ltd
Tianjin Bluekin Industries Limited
Tianjin Coways Metal Products Co., Ltd
Tianjin Hongli Qiangsheng Import And Export Co., Ltd
Tianjin Hweschun Fasteners Manufacturing Co. Ltd
Tianjin Jinchi Metal Products Co., Ltd
Tianjin Jinghai County Hongli Industry and Business Co., Ltd
Tianjin Jinzhuang New Material Sci Co., Ltd
Tianjin Lianda Group Co., Ltd
Tianjin Sunward Logistics Co., Ltd
Tianjin Zhonglian Metals Ware Co., Ltd
Tianjin Zhonglian Times Technology Co., Ltd
Toll Global Forwarding (Hong Kong) Limited
Top Logistics Korea Co., Ltd
Topocean Consolidation Service (China) Ltd
Total Glory Logistics Co., Ltd
Trans Knights International Logistics (Shanghai) Co., Ltd
Translink Shipping, Inc
TTI Freight Forwarder Co., Ltd
U.S. United Logistics (Ningbo) Inc
Ubi Logistics (China) Limited
Un Global Company Limited
Unicorn (Tianjin) Fasteners Co., Ltd
United Company For Metal Products
Ups Scs Korea Ltd
Uqi Shipping Inc
W&K Corporation Limited
Weida Freight System Co., Ltd
Weifang Wenhe Pneumatic Tools Co., Ltd
Worldwide Logistics Co., Ltd
Wulian Zhanpengmetals Co., Ltd
WWL India Private Ltd
Xian Metals And Minerals Import And Export Co., Ltd
Youngwoo Fasteners Co., Ltd
Zhangjiagang Lianfeng Metals Products Co., Ltd
Zhaoqing Harvest Nails Co., Ltd
REPUBLIC OF KOREA: Corrosion-Resistant Steel Products A-580-878 | 7/1/20-6/30/21
Dongbu Incheon Steel Co., Ltd
Dongbu Steel Co., Ltd
Dongkuk Steel Mill Co., Ltd
Hyundai Steel Company
KG Dongbu Steel Co., Ltd (formerly Dongbu Steel Co., Ltd)
POSCO
POSCO Coated & Color Steel Co., Ltd
POSCO International Corporation (formerly POSCO Daewoo Corporation)
SOCIALIST REPUBLIC OF VIETNAM: Certain Steel Nails A-552-818 | 7/1/20-6/30/21
Atlantic Manufacture Inc
Bollore Logistics Vietnam Co., Ltd
C.H. Robinson WorldWide Freight India Pvt., Ltd
City Ocean Logistics Co., Ltd
Come Best (Thailand) Co., Ltd
Delmar International (Vietnam) Ltd
Dicha Sombrilla Co., Ltd
Easy Link Industrial Co. Ltd
Expeditors Vietnam Company Limited
Freight Mark Asia (Thailand) Co., Ltd
Geekay Wires Limited
Gia Linh Logistics Services Co., Ltd
Honour Lane Logistics Co., Ltd
Honour Lane Shipping Limited
Inmax Industries Sdn., Bhd
Jinhai Hardware Co., Ltd
Kerry Indev Logistics Private Limited
KPF Vietnam Co., Ltd
KPF Vina Co., Ltd
Legend Cargo Logistics Company Limited
Mtk Logistics Company Limited
Orient Express Container (Thailand) Co., Ltd
Orient Star Transport International Ltd
Orient Star Logistics Co., Ltd
Pudong Prime International Co., Ltd
Region Industries Co., Ltd
Rich State, Inc
Safround Logistics Co., Ltd
Shine International Transportation (HK) Ltd
Sino Connections Logistics (Thailand) Co., Ltd
Storeit Services LLP
Success Progress International Transport J.S.C
T.H.I Group (Shanghai) Limited
The Inno Steel Co., Ltd
Topy Fasteners Vietnam Co., Ltd
Truong Vinh Ltd
United Nail Products Co., Ltd
Vina Hardwares J.S.C
TAIWAN: Certain Steel Nails A-583-854 | 7/1/20-6/30/21
Acu-Transport Co., Ltd
Allwin Architectural Hardware Inc
Alsons Manufacturing India LLP
An Chen Fa Machinery Co., Ltd
Aplus Pneumatic Corp
Astrotech Steels Pvt. Ltd
Bollore Logistics India Private Ltd
Bon Voyage Logistics Inc
Bonuts Hardware Logistics Co., Ltd
Boss Precision Works Co., Ltd
C.H. Robinson Freight Services Ltd
C.H. Robinson World Wide India Pvt. Ltd
Casia Global Logistics Co., Ltd
Cheng CH International Co., Ltd
Chia Pao Metal Co., Ltd
Chief Ling Entreprise Co., Ltd
China Intl. Freight Co., Ltd
China Sea Forwarders Co., Ltd
China Staple Enterprise Corporation
Chite Enterprises Co., Ltd
Crane Worldwide Logistics LLC
Create Trading Co., Ltd
Crown Run Industrial Corp
De Fasteners Inc
De Well Container Shipping Inc
DHL Global Forwarding Sg. Pte. Ltd
Diversified Freight System Corporation
Easylink Industrial Co., Ltd
Encore Green Co., Ltd
Eusu Logistics Co., Ltd
Evergreen Logistics Corp
Everise Global Logistics Co., Ltd
Faithful Engineering Products Co., Ltd
Geekay Wires Limited
General Merchandise Consolidators, Inc
Grandlink Logistics Co., Ltd
Honour Lane Logistics Company Ltd
Honour Lane Shipping Ltd
Hor Liang Industrial Corp
Houseware Taiwan Industries Ltd
Hoyi Plus Co., Ltd
Inmax Industries Sdn. Bhd
Integral Building Products Inc
Interactive Corp
Jade Shuttle Enterprise Co., Ltd
Jau Yeou Industry Co., Ltd
JC Grand Corporation
Jen Ju Enterprise Co., Ltd
Jet Crown International Co., Ltd
Jiajue Industrial Co., Ltd
Jinsco International Corp
Kay Guay Entreprises Co., Ltd
K.E. & Kingstone Co., Ltd
Kerry Indev Logistics Private Limited
King Chuang Wen Trading Co., Ltd
King Compass Logistics Limited
King Freight International Corp
Ko's Nail Inc
Korea Wire Co., Ltd
Liang Kai Co
Liang Chyuan Industrial Co., Ltd
Lien Bin Industries Co., Ltd
Linkwell Industry Co., Ltd
Locksure Inc
Lu Kang Hand Tools Industrial Co., Ltd
Master United Corp
Maytrans International Corp
Ming Cheng Hardware Co., Ltd
Nailermate Enterprise Corporation
Nailtech Co., Ltd
Newrex Screw Corporation
New Marine Consolidator Co., Ltd
NMC Logistics International Co., Ltd
Oceanlink/Topair International Co.
OEC Freight Worldwide Co., Ltd
Orient Containers Sdn., Bhd
Orient Express Container Co., Ltd
Orient Star International Logistics Co., Ltd
Orient Star Transport International Ltd
Oriental Vanguard Logistics Co., Ltd
Pacific Concord International Ltd
Pacific Star Express Corp
Panda Logistics Co., Ltd
Panther T&H Industry Co
Patek Tool Co., Ltd
Point Edge Corp
President Industrial Inc
Pro Team Coil Nail Enterprise Incor
PT Enterprise, Inc
Ray Fu Entreprise Co., Ltd
Region Industries Co., Ltd
Region System Sdn. Bhd
Romp Coil Nail Industries Inc
SAR Transport Systems Pvt. Ltd
Schenker (H.K.) Ltd
Shinn Chuen Corp
Six2 Fastener Imports Inc
Storeit Services LLP
Success Progress International Tran
Taiwan Shan Yin International Co., Ltd
Taiwan Wakisangyo Co., Ltd
Techart Mechanical Corporation
Test-Rite Int'l Co., Ltd
Theps Co., Ltd
T.H.I. Logistics Co., Ltd
T.V.L. Container Line Limited
The Ultimate Freight Management (Taiwan) Ltd
Topocean Consolidation Service (Taiwan) Ltd
Trans Luck Global Logistics Co., Ltd
Trans-Top Enterprise Co., Ltd
Trans Wagon International Co., Ltd
Transwell Logistics Co., Ltd
Transworld Transportation Co., Ltd
Trim International Inc
U-Can-Do Hardware Corp
UJL Industries Co., Ltd
Unicatch Industrial Co., Ltd
UPS Supply Chain Solutions (Taiwan) Co., Ltd
Valuemax Products Co., Ltd
Vim International Enterprise Co., Ltd
Wattson Fastener Group Inc
Wictory Co., Ltd
Wiresmith Industrial Co., Ltd
Worldwide Logistics Co., Ltd
Yehdyi Enterprise Co., Ltd
Yu Chi Hardware Co., Ltd
Zhishan Xing Enterprise Co., Ltd
Zon Mon Co., Ltd
TAIWAN: Corrosion-Resistant Steel Products A-583-856 | 7/1/20-6/30/21
Prosperity Tieh Enterprise, Co., Ltd
Sheng Yu Steel Co., Ltd
Synn Industrial Co., Ltd
Yieh Phui Enterprise Co., Ltd
TAIWAN: Polyethylene Terephthalate (Pet) Film A-583-837 | 7/1/20-6/30/21
Nan Ya Plastics Corporation
Shinkong Materials Technology Corporation
THAILAND: Citric Acid and Certain Citrate Salts A-549-833 | 7/1/20-6/30/21
COFCO Biochemical (Thailand) Co., Ltd
Sunshine Biotech International Co., Ltd
THE PEOPLE'S REPUBLIC OF CHINA: Certain Steel Grating A-570-947 | 7/1/20-6/30/21
Bai Mu Da Llc
Longkou Guangbang International
Longkou Guangbang International Trade Co., Ltd
Weihai Gaosai Metal Products Co., Ltd
THE PEOPLE'S REPUBLIC OF CHINA: Collated Steel Staples A-570-112 | 1/8/20-6/30/21
China Staple (Tianjin) Co., Ltd
Shanghai Yueda Nails Co., Ltd
Shijiazhuang Shuangming Trade Co., Ltd
Tianjin Hweschun Fasteners Manufacturing Co., Ltd
Tianjin Jinyifeng Hardware Co., Ltd
Unicom Fasteners Co., Ltd
Zhejiang Best Nail Industrial Co., Ltd
THE PEOPLE'S REPUBLIC OF CHINA: Corrosion-Resistant Steel Products A-570-026 | 7/1/20-6/30/21
Metalco S.A,
THE PEOPLE'S REPUBLIC OF CHINA: Xanthan Gum
A-570-985 7/1/20-6/30/21
CP Kelco (Shandong) Biological Company Limited
Deosen Biochemical (Ordos) Ltd
Deosen Biochemical Ltd
Inner Mongolia Jianlong Biochemical Co., Ltd
Jianlong Biotechnology Co., Ltd
Langfang Meihua Biotechnology Co., Ltd
Meihua Group International Trading (Hong Kong) Limited
Nanotech Solutions SDN BHD
Neimenggu Fufeng Biotechnologies Co., Ltd (aka Inner Mongolia Fufeng
Biotechnologies Co., Ltd)
Shandong Fufeng Fermentation Co., Ltd
Shanghai Smart Chemicals Co. Ltd
Xinjiang Fufeng Biotechnologies Co., Ltd
Xinjiang Meihua Amino Acid Co., Ltd
THE PEOPLE'S REPUBLIC OF CHINA: Chloropicrin ⁵ A-570-002 | 3/1/20-9/21/20
TURKEY: Steel Concrete Reinforcing Bar A-489-829 | 7/1/20-6/30/21
Colakoglu Dis Ticaret A.S
Colakoglu Metalurji A.S
Diler Dis Ticaret A.S
Habas Sinai ve Tibbi Gazlar Istihsal Endustrisi A.S
Icdas Celik Enerj i Tersane ve Ulasim
Kaptan Demir Celik Endustrisi ve Ticaret A.S
Sami Soybas Demir Sanayi ve Ticaret A.S
UKRAINE: Oil Country Tubular Goods A-823-815 | 7/1/20-6/30/21
Interpipe Europe S.A
Interpipe Ukraine LLC
LLC Interpipe Niko Tube
PJSC Interpipe Niznedneprovskv Tube Rolling Plant (aka Interpipe NTRP)
CVD Proceedings Period to be Reviewed
INDIA: Polyethylene Terephthalate (Pet) Film C-533-825 | 1/1/20-12/31/20
Ester Industries Ltd
Garware Polyester Ltd
Jindal Poly Films Limited ⁶
MTZ Polyesters Ltd
Polyplex Corporation Ltd
SRF Limited
Uflex Ltd
Vacmet India Limited
ITALY: Certain Pasta
C-475-819 1/1/20-12/31/20
Industria Alimentare Colavita, S.p.A
Pastificio Favellato srl
Pastificio Mediterranea S.R.L
REPUBLIC OF KOREA: Corrosion-Resistant Steel Products C-580-879 | 1/1/20-12/31/20
Ajin H & S Co., Ltd
AJU Steel Co. Ltd
B&N International
CDS Global Logistics
Daewon SD Co., Ltd
Dong A Hwa Sung Co., Ltd
Dongbu Incheon Steel Co., Ltd
Dongbu Steel Co., Ltd
KG Dongbu Steel Co., Ltd. (formerly Dongbu Steel Co., Ltd.)
Dongkuk International, Inc
Hyundai Steel
Hyundai Steel Company
Jawon Korea Co., Ltd
Kima Steel Corporation
Korea Clad Tech. Co., Ltd
Pantos Logistics Co., Ltd
PL Special Steel Co., Ltd
POSCO
POSCO Coated & Color Steel Co., Ltd
POSCO Daewoo Corp
Prosperity Tieh Enterprise Co., Ltd
Samsung C&T Corporation
Samsung Electronics Co., Ltd
Sanglim Steel Co., Ltd
SeAH Coated Metal
SeAH Steel Corporation
Seajin St. Industry, Ltd
Sejung Shipping Co., Ltd
Seun Steel Co., Ltd
Segye Chemical Industry Co., Ltd
Shengzhou Hanshine Import and Export Trade
Soon Hong Trading Co., Ltd
SSangyong Manufacturing
Sung A Steel Co., Ltd
SW Co., Ltd
SY Co., Ltd
Syon
TCC Steel. Co., Ltd
Young Steel Korea Co., Ltd
Young Sun Steel Co
Young Steel Co
Yuchang Air Con Co., Ltd
SOCIALIST OF REPUBLIC OF VIETNAM: Certain Steel Nails C-552-819 | 1/1/20-12/31/20
Atlantic Manufacture Inc
Bollore Logistics Vietnam Co., Ltd
C.H. Robinson WorldWide Freight India Pvt., Ltd
City Ocean Logistics Co., Ltd
Come Best (Thailand) Co., Ltd
Delmar International (Vietnam) Ltd
Dicha Sombrilla Co., Ltd
Easy Link Industrial Co. Ltd
Expeditors Vietnam Company Limited
Freight Mark Asia (Thailand) Co., Ltd
Geekay Wires Limited
Gia Linh Logistics Services Co., Ltd
Honour Lane Logistics Co., Ltd
Honour Lane Shipping Limited
Inmax Industries Sdn., Bhd
Jinhai Hardware Co., Ltd
Kerry Indev Logistics Private Limited
KPF Vietnam Co., Ltd
KPF Vina Co., Ltd
Legend Cargo Logistics Company Limited
Mtk Logistics Company Limited
Orient Express Container (Thailand) Co., Ltd
Orient Star Transport International Ltd
Orient Star Logistics Co., Ltd
Pudong Prime International Co., Ltd
Region Industries Co., Ltd
Rich State, Inc
Safround Logistics Co., Ltd
Shine International Transportation (HK) Ltd
Sino Connections Logistics (Thailand) Co., Ltd
Storeit Services LLP
Success Progress International Transport J.S.C
T.H.I Group (Shanghai) Limited
The Inno Steel Co., Ltd
Topy Fasteners Vietnam Co., Ltd
Truong Vinh Ltd
United Nail Products Co., Ltd
Vina Hardwares J.S.C
THE PEOPLE'S REPUBLIC OF CHINA: Certain Steel Grating
C-570-948 1/1/20-12/31/20
Bai Mu Da Llc
Longkou Guangbang International
Longkou Guangbang International Trade Co., Ltd
Weihai Gaosai Metal Products Co., Ltd
THE PEOPLE'S REPUBLIC OF CHINA: Collated Steel Staples C-570-113 | 11/12/19-12/31/20
A-Jax International Co., Ltd
Anping Haotie Metal Technology Co
Changzhou Kya Trading Co., Ltd
China Dinghao Co., Ltd
China Staple Enterprise (Tianjin) Co., Ltd
China Wind International Ltd
Dezhou Hualude Hardware Products Co., Ltd
Dt China (Shanghai) Ltd, Ningbo Branch
Ejen Brothers Limited
eTeklon Co., Ltd
Fastnail Products Limited
Foshan Chan Seng Import and Export Co., Ltd
Guangdong Meite Mechanical Co., Ltd
H&B Promotional Limited
Hangzhou Great Import & Export Co., Ltd
Hangzhou Light Industrial Products, Arts & Crafts, Textiles Import & Export Co., Ltd Hangzhou Strong Lion New Material Co., Ltd
Hebei Cangzhou New Century Foreign Trade Co., Ltd
Hebei Jinshi Industrial Metal Co., Ltd
Hebei Machinery Import and Export Co., Ltd
Hebei Minmetals Co., Ltd
Hengtuo Metal Products Co., Ltd
Hk Quanyi Coil Spring Metals Product Limited
Huanghua Baizhou Trading Co., Ltd
Jiangmen Rui Xing Yuan Import and Export Co., Ltd
Jiaxing Brothers Hardware Co., Ltd
Jinhua Qual Max Trading Co., Ltd
Kinglong Manufacturing Co., Ltd
Milan Pacific International Limited
Mingguang Ruifeng Hardware Products Co., Ltd
Ningbo (Yinzhou) Yongjia Electrical Tools Co., Ltd
Ningbo Alldo Stationery Co., Ltd
Ningbo Deli Import & Export Co., Ltd
Ningbo Guangbo Import & Export Co., Ltd
Ningbo Huayi Import & Export Co., Ltd
Ningbo Mascube Imp. & Exp. Corp
Ningbo Mate Import & Export Co., Ltd
Ningbo Pacrim Manufacturing Co., Ltd
Ningbo S-Chande Import & Export Co., Ltd
Ningbo Sunlit International Co., Ltd
Ningbo Yuanyu Imp. & Exp. Co., Ltd
Ninghai Huihui Stationery Co., Ltd
Oli-Fast Fasteners (Tianjin)
Qingdao Top Metal Industrial Co., Ltd
Qingdao Top Steel Industrial Co., Ltd
Rayson Electrical Mfg., Ltd
Rebon Building Material Co., Limited
Rise Time Industrial Ltd
Shanghai Genmes Office Products Co., Ltd
Shanghai Jade Shuttle Hardware
Shanghai Lansi Trading Co., Ltd
Shanghai Yinwo Technologies Development Co., Ltd
Shanghai Yueda Nails Co., Ltd
Shaoxing Best Nail Industrial Co., Ltd
Shaoxing Bohui Import Export Co., Ltd
Shaoxing Feida Nail Industry Co., Ltd
Shaoxing Huasheng Stationery Manufacturing Co., Ltd
Shaoxing Jingke Hardware Co., Ltd
Shaoxing Mingxing Nail Co., Ltd
Shaoxing Shunxing Metal Producting Co., Ltd
Shaoxing Xinyi Hardware & Tools Co., Ltd
Shaoxing Yiyou Stationery Co., Ltd
Shenzhen Jinsunway Mould Co., Ltd
Shijiazhuang Shuangming Trade Co., Ltd
Shouguang Hongsheng Import and Export Co., Ltd
Shun Far Enterprise Co., Ltd
Suntec Industries Co., Ltd
Suqian Real Faith International Trade Co., Ltd
Taizhou Dajiang Ind. Co., Ltd
Team One (Shanghai) Co., Ltd
Tianjin Bluekin Industries Co., Ltd
Tianjin D&C Technology Development
Tianjin Huixinshangmao Co., Ltd
Tianjin Hweschun Fasteners Manufacturing Co., Ltd
Tianjin Jin Xin Sheng Long Metal Products Co., Ltd
Tianjin Jinyifeng Hardware Co., Ltd
Tsi Manufacturing LLC
Tung Yung International Limited
Unicom (Tianjin) Fasteners Co., Ltd
Wire Products Manufacturing Co., Ltd
Yangjiang Meijia Economic & Trade Co., Ltd
Youngwoo (Cangzhou) Fasteners Co., Ltd
Yuchen Imp. and Exp. Co, Ltd
Yueqing Yuena Electric Science and Technology Co., Ltd
Zhejiang Best Nail Industrial Co., Ltd
Zhejiang Fairtrade E-Commerce Co., Ltd
Zhejiang KYT Technology Co., Ltd
TURKEY: Certain Pasta C-489-806 | 1/1/20-12/31/20
Bessan Makarna Gida San. Ve Tic. A.S
TURKEY: Steel Concrete Reinforcing Bar C-489-830 | 1/1/20-12/31/20
Habas Sinai ve Tibbi Gazlar Istihsal Endustrisi A.S

Suspension Agreements

None

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁷ available at https://enforcement.trade.gov/frn/2013/1304frn/2013-08227.txt, prior to submitting factual information in this segment. Note that Commerce has temporarily modified certain of its requirements for serving documents containing business proprietary information, until further notice.⁸

⁷ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

⁸ See Temporary Rule Modifying AD/CVD Service Requirements Due to COVID-19, 85 FR 41363 (July 10, 2020).

Any party submitting factual information in an AD or CVD proceeding must certify to the accuracy and completeness of that information using the formats provided at the end of the Final Rule.⁹ Commerce intends to reject factual submissions in any proceeding segments if the submitting party does not comply with applicable certification requirements.

⁹ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁰ In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹⁰ See 19 CFR 351.302.

These initiations and this notice are in accordance with section 751(a) of the Act (19 U.S.C. 1675(a)) and 19 CFR 351.221(c)(1)(i).

Dated: August 31, 2021.
James Maeder,
Deputy Assistant Secretary for Antidumping and Countervailing Duty Operations.

[FR Doc. 2021-19190 Filed 9-3-21; 8:45 am]

BILLING CODE 3510-DS-P